DEPARTMENT OF DEFENSE

Office of the Secretary

[Transmittal No. 17-76]

Arms Sales Notification

AGENCY: Defense Security Cooperation Agency, Department of Defense (DoD).

ACTION: Arms sales notice.

SUMMARY: The Department of Defense is publishing the unclassified text of an arms sales notification.

FOR FURTHER INFORMATION CONTACT: Pamela Young, (703) 697-9107, pamela.a.young14.civ@mail.mil or Kathy Valadez, (703) 697-9217, kathy.a.valadez.civ@mail.mil; DSCA/DSA-RAN.

SUPPLEMENTARY INFORMATION: This 36(b)(1) arms sales notification is published to fulfill the requirements of section 155 of Public Law 104-164 dated July 21, 1996. The following is a copy of a letter to the Speaker of the House of Representatives, Transmittal 17-76 with attached Policy Justification and Sensitivity of Technology.

Dated: February 8, 2018.
Aaron Siegel,
Alternate OSD Federal Register Liaison Officer, Department of Defense.

BILLING CODE 5001-06-P

BILLING CODE 5001-06-C

Transmittal No. 17-76

Notice of Proposed Issuance of Letter of Offer Pursuant to Section 36(b)(1) of the Arms Export Control Act, as amended

(i) Prospective Purchaser: Government of Finland

(ii) Total Estimated Value:

Major Defense Equipment * | $434 million
Other | $188 million
Total | $622 million

(iii) Description and Quantity or Quantities of Articles or Services under Consideration for Purchase:

Major Defense Equipment (MDE):

One hundred (100) RGM-84Q-4 Harpoon Block II Plus (+) Extended Range (ER) Grade B Surface-Launched Missiles

Twelve (12) RGM-84L-4 Harpoon Block II Grade B Surface-Launched Missiles

Twelve (12) RGM-84Q-4 Harpoon Block II+ ER Grade B Surface-Launched Upgrade Kits

Four (4) RTM-84L-4 Harpoon Block II Grade B Exercise Surface-Launched Missiles

Four (4) RTM-84Q-4 Harpoon Block II+ ER Grade B Exercise Surface-Launched Missiles

Non-MDE:

Also included are containers, spare and repair parts, support and test equipment, publications and technical documentation, personnel training and training equipment, technical assistance, engineering and logistics support services, and other related elements of logistical support.

(iv) Military Department: Navy (FI-P-LBQ)

(v) Prior Related Cases, if any: None

(vi) Sales Commission, Fee, etc., Paid, Offered, or Agreed to be Paid: None

(vii) Sensitivity of Technology Contained in the Defense Article or Defense Services Proposed to be Sold: See Attached Annex

(viii) Date Report Delivered to Congress: February 5, 2018

* As defined in Section 47(6) of the Arms Export Control Act.

POLICY JUSTIFICATION

Finland—RGM-84Q-4 Harpoon Block II+ ER Grade B Surface-Launched Missiles and RGM-84L-4 Harpoon Block II Grade B Surface-Launched Missiles

The Government of Finland has requested a possible sale of one hundred (100) RGM-84Q-4 Harpoon Block II Plus (+) Extended Range (ER) Grade B Surface-Launched Missiles, twelve (12) RGM-84L-4 Harpoon Block II Grade B Surface-Launched Missiles, twelve (12) RGM-84Q-4 Harpoon Block II+ ER Grade B Surface-Launched Upgrade Kits, four (4) RTM-84L-4 Harpoon Block II Grade B Exercise Surface-Launched Missiles, and four (4) RTM-84Q-4 Harpoon Block II+ ER Grade B Exercise Surface-Launched Missiles. Also included are containers, spare and repair parts, support and test equipment, publications and technical documentation, personnel training and training equipment, technical assistance, engineering and logistics support services, and other related elements of logistical support. The estimated total case value is $622 million.

This proposed sale will support the foreign policy and national security objectives of the United States by improving the security of a partner nation that has been, and continues to be, an important force for political stability and economic progress in Europe.

Finland intends to use the missiles on its Hamina class ships, Multirole Corvette ships, and Coastal Batteries. The missiles will provide enhanced capabilities in effective defense of critical sea lanes. The proposed sale of the missiles and support will increase the Finnish Navy's maritime partnership potential and increase regional security capability. Finland has not purchased Harpoon Block II+ ER previously, but will have no difficulty incorporating this capability into its armed forces.

The proposed sale of this equipment and support will not alter the basic military balance in the region.

The principal contractor will be The Boeing Company, St. Louis, MO. The purchaser typically requests offsets. Any offset agreement will be defined in negotiations between the purchaser and the contractor.

Implementation of this proposed sale will require up to 21 U.S. Government personnel to travel to Finland providing support over a period of ten years.

There will be no adverse impact on U.S. defense readiness as a result of this proposed sale.

Transmittal No. 17-76

Notice of Proposed Issuance of Letter of Offer Pursuant to Section 36(b)(1) of the Arms Export Control Act

Annex

Item No. vii

(vii) Sensitivity of Technology:

1. The RGM-84Q Harpoon Block II+ ER Surface-Launched missile system is classified SECRET. The Harpoon missile is a non-nuclear tactical weapon system. It provides a day, night, and adverse weather, standoff air-to-surface capability and is an effective Anti-Surface Warfare missile. The RGM-84Q incorporates components, software, and technical design information that is considered sensitive. The following components being conveyed by the proposed sale that are considered sensitive include:

a. Classified CONFIDENTIAL:

(1) Radar Seeker

(2) GPS/INS System

(3) Operational Flight Program Software

(4) Missile operational characteristics and performance data

b. Classified up to SECRET:

(1) Weapon Data Link (depending on key classification)

(2) Warhead

These elements are essential to the ability of the Harpoon missile to selectively engage hostile targets under a wide range of operations, tactical and environmental conditions. The Harpoon is a Coastal Target Suppressions land attack weapon.

2. The RGM-84L Harpoon Block II Surface-Launched missile system is classified CONFIDENTIAL. The Harpoon missile is a non-nuclear tactical weapon system currently in service in the U.S. Navy and in 29 other foreign nations. It provides a day, night, and adverse weather, standoff air-to-surface capability and is an effective Anti-Surface Warfare missile. The RGM-84L incorporates components, software, and technical design information that are considered sensitive. The following components being conveyed by the proposed sale that are considered sensitive and are classified CONFIDENTIAL are:

Classified CONFIDENTIAL:

(1) Radar Seeker

(2) GPS/INS System

(3) Operational Flight Program Software

(4) Missile operational characteristics and performance data

3. The RTM-84 Exercise Harpoon Surface-Launched missile is classified up to SECRET. The RTM-84 Exercise Harpoon incorporates components, software, and technical design information that are considered sensitive. The following components being conveyed by the proposed sale that are considered sensitive include:

a. Classified CONFIDENTIAL:

(1) Radar Seeker

(2) GPS/INS System

(3) Operational Flight Program Software

(4) Missile operational characteristics and performance data

b. Classified up to SECRET:

(1) Weapon Data Link (depending on key classification)

4. If a technologically advanced adversary were to obtain knowledge of specific hardware, the information could be used to develop countermeasures which might reduce weapons system effectiveness or be used in the development of a system with similar or advanced capabilities.

5. A determination has been made that Finland can provide substantially the same degree of protection for sensitive technology being released as the U.S. Government. This proposed sustainment program is necessary to the furtherance of the U.S. foreign policy and national security objectives outlined in the policy justification.

6. All defense articles and services listed on this transmittal are authorized for release and export to the Government of Finland.

[FR Doc. 2018-02876 Filed 2-12-18; 8:45 am]

BILLING CODE 5001-06-P